DEPARTMENT OF TRANSPORTATION

Federal Aviation Administration

Notice of Opportunity for Public Comment on Surplus Property Release at George M. Bryan Airport Starkville, Mississippi

AGENCY: Federal Aviation Administration (FAA), DOT.

ACTION: Notice of intent to rule on land release request.

SUMMARY: Under the provisions of Title 49, U.S.C. Section 47153(c), notice is being given that the FAA is considering a request from the Starkville Board of Alderman to waive the requirement that a 10.01-acre parcel of surplus property, located at the George M. Bryan Airport, be used for aeronautical purposes.

DATES: Comments must be received on or before September 20, 2013.

ADDRESSES: Comments on this notice may be mailed or delivered in triplicate to the FAA at the following address: Jackson Airports District Office, 100 West Cross Street, Suite B, Jackson, MS 39208-2307.

In addition, one copy of any comments submitted to the FAA must be mailed or delivered to Rodney Lincoln, Airport Manager, at the following address: George M. Bryan Airport, 120 Airport Rd., Starkville, MS 39759.

FOR FURTHER INFORMATION CONTACT: David Shumate, Program Manager, or Brian Hendry, Community Planner, at the Jackson Airports District Office, 100 West Cross Street, Suite B, Jackson, MS 39208-2307, (601)664-9882. The land release request may be reviewed in person at this same location.

SUPPLEMENTARY INFORMATION: The FAA is reviewing a request by George M. Bryan Airport to release 10.01 acres of surplus property at the Starkville/Oktibbeha County Airport. The property will be purchased by Golden Triangle Planning and Development District for a passive recreation park. The net proceeds from the sale of this property will be used for Airport Improvement Program eligible development.

Any person may inspect the request in person at the FAA office listed above under FOR FURTHER INFORMATION CONTACT. In addition, any person may, upon request, inspect the request, notice and other documents germane to the request in person at the George M. Bryan Airport.

Issued in Jackson, Mississippi on August 12, 2013.
Rans D. Black,
Manager, Jackson Airports District Office, Southern Region.

[FR Doc. 2013-20368 Filed 8-20-13; 8:45 am]

BILLING CODE 4910-13-P